DEPARTMENT OF ENERGY

Federal Energy Regulatory Commission

[Docket No. CP00-92-000]

CNG Transmission Corporation; Notice of Application

March 1, 2000.

Take notice that on February 22, 2000, CNG Transmission Corporation (CNG), 445 Main Street, Clarksburg, West Virginia 26301, tendered for filing in Docket No. CP00-92-000 an application, pursuant to Sections 7(b) and 7(c) of the Natural Gas Act and Part 157 of the Commission's Regulations seeking permission and approval to abandon Well 9081 and associated facilities and to drill up to five new replacement wells (13059, 13060, 13061, 13062, and 13063) all within the Bridgeport Storage Pool located in Harrison and Taylor Counties, West Virginia, all as fully set forth in the application which is on file with the Commission and open to public inspection. This filing may be viewed on the web at http://www.ferc.us/online/rims.htm (call 202-208-2222 for assistance).

CNG states that this authorization is necessitated by the proposed construction of the Bridgeport Bypass Project by the West Virginia Department of Transportation, Division of Highways. CNG also states that it will construct and abandon storage gathering lines pursuant to blanket certificate authority granted in Docket No. CP82-537-000 (21 FERC ¶ 62,172 (1982)).

Any questions regarding the application should be directed to Sean R. Sleigh, Manager, Certificates, CNG Transmission Corporation, 445 West Main Street, Clarksburg, WV 26301 (304) 623-8462 (voice) and (304) 623-8305 (fax).

Any person desiring to be heard or to make any protest with reference to said application should on or before March 22, 2000, file with the Federal Energy Regulatory Commission, 888 First Street NE., Washington, DC 20426, a motion to intervene or protest in accordance with the requirements of the Commission's Rules of Practice and Procedure (18 CFR 385.211 and 385.214) and the regulations under the NGA (18 CFR 157.10). All protests filed with the Commission will be considered by it in determining the appropriate action to be taken but will not serve to make the protestants parties to the proceeding. Any person wishing to become a party in any proceeding must file a motion to intervene in accordance with the Commission's rules.

A person obtaining intervenor status will be placed on the service list maintained by the Secretary of the Commission and will receive copies of all documents issued by the Commission, filed by the applicant, or filed by all other intervenors. An intervenor can file for rehearing of any Commission order and can petition for court review of any such order. However, an intervenor must serve copies of comments or any other filing it makes with the Commission to every other intervenor in the proceeding, as well as filing an original and 14 copies with the Commission.

A person does not have to intervene, however, in order to have comments considered. A person, instead, may submit two copies of such comments to the Secretary of the Commission. Commenters will be placed on the Commission's environmental mailing list, will receive copies of environmental documents, and will be able to participate in meetings associated with the Commission's environmental review process. Commenters will not be required to serve copies of filed documents on all other parties. However, commenters will not receive copies of all documents filed by other parties or issued by the Commission, and will not have the right to seek rehearing or appeal the Commission's final order to a Federal court.

The Commission will consider all comments and concerns equally, whether filed by commenters or those requesting intervenor status.

Take further notice that, pursuant to the authority contained in and subject to the jurisdiction conferred upon the Commission by Sections 7 and 15 of the NGA and the Commission's Rules of Practice and Procedure, a hearing will be held without further notice before the Commission or its designee on this application if no motion to intervene is filed within the time required herein, if the Commission on its own review of the matter finds that the proposal is required by the public convenience and necessity. If a motion for leave to intervene is timely filed, or if the Commission on its own motion believes that a formal hearing is required, further notice of such hearing will be duly given.

Under the procedure provide for, unless otherwise advised, it will be unnecessary for CNG to appear or to be represented at the hearing.

David P. Boergers,
Secretary.

[FR Doc. 00-5440 Filed 3-6-00; 8:45 am]

BILLING CODE 6717-01-M